DEPARTMENT OF COMMERCE

National Oceanic and Atmospheric Administration

[RTID 0648-XC772]

Caribbean Fishery Management Council's District Advisory Panels; Public Meetings

AGENCY: National Marine Fisheries Service (NMFS), National Oceanic and Atmospheric Administration (NOAA), Commerce.

ACTION: Notice of public meetings.

SUMMARY: The Caribbean Fishery Management Council's (Council) District Advisory Panels (DAPs) will hold public meetings to address the items contained in the tentative agenda included in the SUPPLEMENTARY INFORMATION.

DATES: The meetings will be held March 8, March 29 and April 11, 2023. All meetings will be held from 9 a.m. to 4 p.m., Atlantic Standard Time (AST).

ADDRESSES: The DAPs public meetings will be held as follows:

March 8, 2023—St. Thomas/St. John DAP—Windward Passage Hotel 3100 Kronprindsens Tvaer, Charlotte Amalie, St. Thomas, U.S.V.I.;

March 29, 2023—St. Croix DAP—Buccaneer Hotel, 5007 Estate, Christiansted, St. Croix, U.S.V.I.; and

April 11, 2023—Puerto Rico DAP—Courtyard Isla Verde Beach Resort, Carolina, Puerto Ric, 7012 Boca de Cangrejos Avenue, Carolina, Puerto Rico.

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The items included in the tentative agenda are:

—Call to Order

—Roll Call

—Adoption of Agenda

—Island-Based FMPs Presentation for each Area (St. Thomas/St. John, St. Croix, Puerto Rico)—Dr. Graciela Garcia-Moliner

Outreach & Education Related to Island-Based FMPs—Dr. Alida Ortiz

—Other Business

All meetings will be discussing the same agenda items.

Other than the starting date and time, the order of business may be adjusted as necessary to accommodate the completion of agenda items, at the discretion of the Chair.

Special Accommodations

Simultaneous interpretation will be provided for the DAP-PR, on April 11, 2023. For simultaneous interpretation English-Spanish-English.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: February 13, 2023.
Rey Israel Marquez,
Acting Deputy Director, Office of Sustainable Fisheries, National Marine Fisheries Service.

[FR Doc. 2023-03338 Filed 2-16-23; 8:45 am]

BILLING CODE 3510-22-P